DEPARTMENT OF TRANSPORTATION

Federal Transit Administration

Addendum to Preparation of an Environmental Impact Statement for a Proposed Transit Improvement Project in Branson, MO

AGENCY: Federal Transit Administration (FTA), U.S. Department of Transportation (DOT).

ACTION: Notice of revised public meeting date supporting the notice of intent to prepare an environmental impact statement

SUMMARY: FTA is issuing this notice to advise the public and agencies that the open-house public scoping meeting for the Environmental Impact Statement (EIS) on a proposed transit improvement project in Branson, Missouri has been rescheduled.

DATES: Public Scoping Meeting: A public open-house meeting is scheduled from 4 to 7 pm on Monday, August 30, 2004, at the Branson City Hall Municipal Courtroom (110 West Maddux Street, Branson, MO) in lieu of the originally scheduled June 29 open-house meeting. (The new meeting date will be advertised locally.) Oral and written comments may be made at this session. Project staff from the City of Branson will be available for informational discussion and to answer questions. The following information will be presented at the Open-house meeting: The study-area boundary; the study schedule; the public involvement plan; the problem statement; the project purpose and need; the study goals and objectives; effectiveness measures, as well as the alternatives currently proposed to be considered in the study. Input will be solicited to focus the environmental investigations. The meeting location is accessible to individuals with disabilities. Individuals with special needs should contact Cheryl Ford, Engineering Department; City of Branson, Missouri at (417) 337-8559. Comment Due Date: Written comments on the scope of the EIS should be sent to the Branson City Engineer as indicated in ADDRESSES below by September 30, 2004.

ADDRESSES: Written comments on the project scope should be forwarded to: Joni Roeseler, Project Manager, Federal Transit Administration, Region VII, 901 Locust Street, Room 404, Kansas City, Missouri 64106; Telephone: (816) 329-3936; e-mail: joan.roeseler@fta.dot.gov; or: David Miller, City Engineer, City of Branson, 110 West Maddux Street, Suite 310, Branson, Missouri 65616; Telephone: (417) 337-8559; e-mail: dmiller@cityofbranson.org.

FOR FURTHER INFORMATION CONTACT: If additional information is needed, contact the FTA or the City of Branson personnel identified in ADDRESSES above. You can also visit the City of Branson Web site at http://www.branson.com where a project page will be established by the time of the open-house meeting.

Scoping Package: An information packet, referred to as the Scoping Booklet, will be distributed to interested individuals upon request and will be available at the meeting. (Copies of the Scoping Booklet have also been distributed to resource agencies.) Others may request the Scoping Booklet by contacting the Branson City Engineer as indicated in ADDRESSES above. Also contact the Branson City Engineer if you wish to be placed on the mailing list to receive additional information as the study develops.

SUPPLEMENTARY INFORMATION:

I. Scoping

FTA, in cooperation with the City of Branson and the Missouri department of Transportation (MoDOT), will prepare an EIS to address transit improvements in the City of Branson, Missouri. The EIS will evaluate all reasonable alternatives identified during the scoping process, as required by the National Environmental Policy Act (NEPA) and its implementing regulations. This NEPA alternatives analysis is expected to result in the selection of a locally preferred alternative, which may include a fixed guideway transit improvement.

II. Description of Corridor and Transportation Needs

Branson, Missouri, with a populations of about 6,000 accommodates over seven million visitors a year. These visitors make trips to multiple venues (theaters, lodging, restaurants, etc.), which are concentrated along State Route 76. This roadway, referred to as “the Strip,” offers a single lane of vehicular flow in each direction divided by a two-way left-turn lane. The roadway is paralleled by narrow paved shoulders used as sidewalks and by multiple overhead utilities situated adjacent to intensive development. Only a handful of signalized intersections exist along the strip, complicating the ability of pedestrians to get across the street. Options are limited to further expand the roadway network to address the considerable traffic congestion that remains on the Strip from single-occupant autos and tour buses. No public transit service is currently available in the corridor. The problem is expected to grow worse over time as venues continue to grow in popularity and as more venues are added.

Transit needs will be evaluated in this corridor to address the congestion problems along the Strip. The study area involves a roughly ten-mile-long corridor. It is generally bounded: on the north by the Red Route west of Roark Creek and the Missouri and North Arkansas railroad east of Roark Creek; on the east by the rail line; on the south by parkland paralleling Lake Taneycomo and the Yellow Route; and on the west by the Taney/Stone County line. Alternatives to be considered will include: (1) Taking no action (no-build); (2) transportation systems management; (3) fixed guideway transit (including elevated options with park-and-ride facilities and feeder bus/shuttle vans); and (4) other alternatives discovered during the scoping process.

III. Probable Effects and Potential Impacts for Analysis

The transportation, social, economic, and environmental effects of the alternatives will be evaluated during the project study. The impact areas to be addressed include: land use effects; visual/aesthetic effects; community, business and economic impacts; traffic and parking; public safety; utilities effects; relocations; water quality; flood plains; natural systems impacts; air quality; noise and vibration; energy impacts; and cultural and historic resources. Potential environmental justice issues and financial considerations will also be addressed along with secondary, cumulative and construction impacts.

IV. FTA Procedures

In accordance with FTA policy, all federal laws, regulations, and executive orders affecting project development including but not limited to the regulations of the Council on Environmental Quality and FTA regulations implementing NEPA (40 CFR parts 1500-1508, and 23 CFR part 771), the Clean Air Act, Section 404 of the Clean Water Act, Executive Order 12898 regarding environmental justice, the National Historic Preservation Act, the Endangered Species Act, and Section 4(f) of the DOT Act, will be addressed. In addition, the FTA New Starts regulation (49 CFR part 611) will be applied, which requires the submission of specific information to FTA from the grant applicant to support an FTA decision on initiating preliminary engineering.

Comments and suggestions are invited from all interested parties to assist in addressing the full range of alternatives and to identify any significant potential project impacts. In addition, a public hearing will be held after the draft EIS has been circulated for public and agency review and comment. Comments or questions concerning the proposed action and the scope of the EIS should be directed to the FTA as described in ADDRESSES above.

Issued on August 6, 2004.
Mokhtee Ahmad,
FTA Regional Administrator.

[FR Doc. 04-18486 Filed 8-11-04; 8:45 am]

BILLING CODE 4910-57-M